DEPARTMENT OF JUSTICE

Antitrust Division

Notice Pursuant to the National Cooperative Research and Production Act of 1993—Mobile Satellite Services Association

Notice is hereby given that, on April 26, 2024, pursuant to section 6(a) of the National Cooperative Research and Production Act of 1993, 15 U.S.C. 4301 et seq. (“the Act”), Mobile Satellite Services Association (“MSSA”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: FocusPoint International, Inc., Sunrise, FL; Ligado Networks LLC, Reston, VA; Omnispace LLC, McLean, VA; Terrestar Solutions Inc., Outremont, CANADA; Viasat, Carlsbad, CA; Terran Orbital, Boca Raton, FL; eSAT Global, Inc., Solana, CA; and Al Yah Satellite Communications Company PJSC, Abu Dhabi, UNITED ARAB EMIRATES. The general area of MSSA's planned activity is to (i) support open interoperable architectures and standards for use in multi-orbit satellite systems, ground infrastructure, and end user equipment; (ii) define one or more specifications, best practices, reference architectures, implementation guidelines, and standardized agreements (collectively, “Deliverables”) to promote the adoption of satellite-to-terrestrial mobile telecommunication services and enhance seamless global roaming between terrestrial and multi-orbit satellite networks; (iii) achieve scale through improved coordination and cooperation mechanisms among mobile satellite services (“MSS”) operators to maximize the utility of already available and licensed global MSS spectrum in nations desiring advanced non-terrestrial networks (“NTN”) services; (iv) maximize scarce multi-orbit space and spectrum resources and employ sustainable network design and operation to enable affordable advanced NTN services; (v) advocate for policies, laws and regulations that advance the purposes of the Venture, including those related to rational, efficient, safe and sustainable uses of spectrum and orbits, and based on, where appropriate, objective and quantitative metrics regarding all objects in orbit around Earth; (vi) provide a neutral forum to facilitate collaboration among members of the Venture for coordination of third generation partner projects (3GPP) and other international standards activities; (vii) support the integration of space networks into national telecommunications infrastructure via trusted local partners and within sovereign regulatory and national security frameworks; (viii) provide mechanisms for individual nations to participate in the new space economy via open standards and architectures and via the space networks supported by the Venture; (ix) create one or more trademarks to raise awareness of commercial opportunities and trust in the marketplace; (x) educate the industry, media, and analyst and operator communities on the value, benefits, and applications for the Venture's Deliverables; (xi) foster competition in the marketplace in compliance with all applicable antitrust laws and regulations; and (xii) undertake such other activities as may from time to time be appropriate to further the purposes and achieve the goals set forth above. Membership in MSSA remains open and MSSA intends to file additional written notifications disclosing all changes in membership.

Suzanne Morris,
Deputy Director Civil Enforcement Operations, Antitrust Division.

[FR Doc. 2024-13647 Filed 6-20-24; 8:45 am]

BILLING CODE 4410-11-P